DEPARTMENT OF HOMELAND SECURITY

U.S. Customs and Border Protection

Announcement of National Customs Automation Program Test Concerning Automated Commercial Environment (ACE) Entry Summary, Accounts and Revenue Capabilities

AGENCY: U.S. Customs and Border Protection, Department of Homeland Security.

ACTION: General notice.

SUMMARY: This document announces Custom and Border Protection's (CBP's) plan to conduct a National Customs Automation Program (NCAP) test concerning Automated Commercial Environment (ACE) Entry Summary, Accounts and Revenue capabilities. These new capabilities will provide enhanced account management functions for ACE Portal Accounts. This notice also announces that the types of Portal Accounts in ACE have been expanded. This notice invites public comment concerning any aspect of the planned test, describes the eligibility, procedural and documentation requirements for voluntary participation in the test, and outlines the development and evaluation methodology to be used in the test.

DATES: The effective date of this notice is October 18, 2007. The test will continue until concluded by way of announcement in the Federal Register. Comments concerning this notice and any aspect of the announced test may be submitted during the test period to the address set forth below.

ADDRESSES: Comments concerning this notice should be submitted via e-mail to CBP.CSPO@dhs.gov.

FOR FURTHER INFORMATION CONTACT: Operational aspects for importers and brokers: Ruthanne Kenneally at (202) 863-6064. Operational aspects for carriers: James Swanson at james.d.swanson@dhs.gov. Systems or automation aspects: ACE HELPDESK at ACE.HELPDESK@customs.treas.gov.

SUPPLEMENTARY INFORMATION:

Background

I. ACE Test Programs

A. ACE Portal Accounts

On May 1, 2002, the former U.S. Customs Service, now U.S. Customs and Border Protection (CBP), published a General Notice in the Federal Register (67 FR 21800) announcing a plan to conduct a National Customs Automation Program (NCAP) test of the first phase of the Automated Commercial Environment (ACE). The test was described as the first step toward the full electronic processing of commercial importations with a focus on defining and establishing an importer's account structure. The General Notice announced that importers and authorized parties would be allowed to access their customs data via a Web-based Account Portal. The notice set forth eligibility criteria for companies interested in establishing Account Portals accessible through ACE. Subsequent General Notices revised the eligibility criteria (see General Notice published in the Federal Register on February 1, 2005 (67 FR 5199)) and expanded the universe of eligible participants in the ACE test and the types of ACE Portal Accounts.

On February 4, 2004, CBP published two General Notices in the Federal Register that established ACE Truck Carrier Accounts and opened the application period for authorized importers and their designated brokers to participate in the NCAP test to implement the Periodic Monthly Statement (PMS) process (see 69 FR 5360 and 69 FR 5362, respectively). Brokers were invited to establish Broker Accounts in ACE in order to participate in the NCAP test to implement PMS. In both of the February 4, 2004 General Notices, CBP advised participants they could designate only one person as the Account Owner for the company's ACE Portal account. The Account Owner was identified as the party responsible for safeguarding the company's ACE Portal Account information, controlling all disclosures of that information to authorized persons, authorizing user access to the ACE Portal Account information, and ensuring the strict control of access by authorized persons to the ACE Portal information.

On September 8, 2004, CBP published a General Notice in the Federal Register (69 FR 54302) inviting customs brokers to participate in the ACE Portal test generally and informing interested parties that once they had been notified by CBP that their request to participate in the ACE Portal test had been accepted, they would be asked to sign and submit a Terms and Conditions document. CBP subsequently contacted those participants and asked them to also sign and submit an ACE Power of Attorney form and an Additional Account/Account Owner Information form.

B. Terms and Conditions for Access to the ACE Portal

On May 16, 2007, CBP published a General Notice in the Federal Register (72 FR 27632) announcing a revision of the terms and conditions that must be followed as a condition for access to the ACE Portal. These terms and conditions supersede and replace the Terms and Conditions document previously signed and submitted to CBP by ACE Portal Trade Account Owners. The notice specified that no further action would be required by ACE Portal Trade Account Owners for those ACE Portal Accounts already established with CBP with the proper Account Owner listed. The principal changes to the ACE Terms and Conditions included a revised definition of “Account Owner” to permit either an individual or a legal entity to serve in this capacity, new requirements relating to providing notice to CBP when there has been a material change in the status of the Account and/or Trade Account Owner, and explanatory provisions as to how the information from a particular account may be accessed through the ACE Portal when that account is transferred to a new owner.

C. ACE Non-Portal Accounts

CBP has also permitted certain parties to participate in specified ACE tests without establishing ACE Portal Accounts (“Non-Portal Accounts”). On October 24, 2005, CBP published a General Notice in the Federal Register (70 FR 61466) announcing that importers could establish ACE non-portal accounts and participate in the PMS test under certain conditions. On March 29, 2006, CBP published another General Notice in the Federal Register (71 FR 15756) announcing that truck carriers who do not have ACE Truck Carrier Accounts may use third parties to transmit truck manifest information on their behalf electronically in the ACE Truck Manifest system via Electronic Data Interface (EDI) messaging.

II. Test Concerning New ACE Entry Summary, Accounts and Revenue (ESAR) Capabilities

This document announces CBP's plan to conduct a new test concerning ACE Entry Summary, Accounts and Revenue (ESAR) capabilities which will provide enhanced account management functions for ACE Portal Accounts and expand the universe of ACE account types. Features of these new ACE functions, as well as the eligibility, procedural and documentation requirements for voluntary participation in the test, are described below.

A. ACE Portal Account Enhancements

ACE is now the lead system for CBP-required master data elements (e.g., company name, address, point of contact) as well as related reference files (e.g., country code, port code, manufacturer ID, gold currency exchange rate and conversion calculator). See ACE Systems of Record Notice (71 FR 3109), published in the Federal Register on January 19, 2006. This means that the creation and maintenance of specified master data elements will originate in ACE and will be distributed to other CBP systems such as the Automated Commercial System (ACS).

B. Importer Portal Accounts

Importer Portal Accounts will have the ability to create and maintain specified importer data via the ACE Portal. Filers will also have the ability to create a new CBP Form 5106 (Importer ID Input Record) via the ACE Portal or the Automated Broker Interface (ABI). For the present time, and until CBP's e-bond functionality is deployed, importers who have a continuous bond on file who want to update their CBP Form 5106 information will need to submit the CBP Form 5106, along with the paper bond rider, to the CBP Revenue Division in Indianapolis. Additionally, importers and filers will have the ability to view applicable Participating Government Agency (PGA) licenses, permits and certificates via the ACE Portal. Eligibility requirements for Importer Portal Accounts remain unchanged. See 67 FR 21800, May 1, 2002.

C. Broker Portal Accounts

Broker Portal Accounts will have access to the following functionalities through the ACE Portal: Maintenance of organizational demographic data (e.g., addresses, points of contact, etc.); license and permit qualifiers; data on managing officials; employee lists; relationships to individual licensed brokers; points of contact and address information (at filer code level, for each local broker permit and each port covered by the local permit, and for the national broker permit). Broker Portal Accounts will also be able to generate the following reports: Local and national broker permits on an annual basis; broker employee lists; open broker permits; and delinquent permit user fees by port or broker. Broker Portal Accounts with a filer code may be used to create the CBP Form 5106 via the ACE Portal and can view applicable PGA licenses, permits and certificates. Eligibility requirements for Broker Portal Accounts remain unchanged. See 69 FR 5362, February 4, 2004.

D. Truck Carrier Portal Accounts

In addition to its current capabilities, a Truck Carrier Portal Account will now be able to view any applicable PGA licenses, permits and certificates and have access to the following functionalities through the ACE Portal: Maintenance of addresses and points of contact; and pre-registered truck conveyance, equipment, shipper, and consignee data. A Truck Carrier Portal Account will also be able to create and maintain driver accounts and search for and correlate existing driver accounts to their Carrier Account (see also Section III.D of this document). Eligibility requirements for Truck Carrier Portal Accounts remain unchanged. See 69 FR 5360, February 4, 2004.

III. Expanded ACE Portal Account Types

The ACE Portal will now provide for the following additional Portal Account types: Carriers (all modes: air, rail, sea); Cartman; Lighterman; Driver/Crew; Facility Operator; Filer; Foreign Trade Zone (FTZ) Operator; Service Provider; and Surety. To be eligible to establish an ACE Portal Account, interested parties must be able to connect to the Internet.

A. Application Process

The term “application,” as used throughout this notice, is defined as a statement of intent from an interested party to establish an ACE Portal Account. Anyone wishing to establish an ACE Portal Account with access to the ACE Portal must submit an application to CBP (available at http://www.CBP.gov) either via U.S. regular mail to the address noted on http://www.CBP.gov or via e-mail to ACE.Applications@dhs.gov. In addition to the eligibility requirements described in this Notice, the application must include the information set forth under the applicable business category, as well as the name, address, and e-mail address of a point of contact to receive further information. Anyone providing incomplete information, or otherwise not meeting participation requirements, will be notified and given the opportunity to resubmit their application. Upon receipt of a complete application, CBP will contact the applicant with regard to any additional information that may be required. Participants will be required to acknowledge a continuing obligation to provide CBP with any updates or changes to the information originally submitted.

Each participant must designate an individual or an entity as the ACE Portal Trade Account Owner on the application. The Trade Account Owner will be responsible for the information entered into the participant's ACE Portal Account. The ACE Portal Trade Account Owner will be responsible for safeguarding the ACE Portal account information, controlling all disclosures of that information to authorized persons, authorizing user access to the ACE Portal account, and ensuring that access by authorized persons to the ACE Portal information is strictly controlled (see Terms and Conditions of Portal Access, 72 FR 27632, published May 16, 2007).

All data submitted and entered into the ACE Portal is subject to the Trade Secrets Act (18 U.S.C. 1905) and is considered confidential, except to the extent as otherwise provided by law (see 19 U.S.C. 1431(c)).

As stated in previous notices, participation in this or any of the previous ACE tests is not confidential and upon a written Freedom of Information Act request , a name(s) of an approved participant(s) will be disclosed by CBP in accordance with 5 U.S.C. 552.

B. Carriers (All Modes: Air, Rail, and Sea)

To establish a Carrier (all modes: air, rail and sea) Portal Account, the following information is required:

a. SCAC (Standard Carrier Alpha Code), International Air Transport Association (IATA), or International Civil Aviation Organization (ICAO) designator (as applicable); and

b. Method of transportation (i.e., air, rail, vessel).

Initially, Carriers (all modes: air, rail and sea) who establish ACE Portal Accounts will only have access to the static data and basic account profile information necessary to establish their portal account. Any new ACE Portal Account functionalities that may be made available to Carriers on a test basis will be announced in a future General Notice published in the Federal Register. At that time, CBP will deploy an initial group of participants for participation in the NCAP test.

It is anticipated that Carrier Portal Accounts will eventually derive the following benefits:

• Access to operational data through the ACE Portal;

• Electronic interaction with CBP;

• Receipt of status messages concerning Account transactions;

• Access to integrated Account data from multiple system sources;

• Ability to manage and disseminate information in an efficient and secure manner; and

• Ability to electronically transmit a manifest and obtain release of its cargo, crew, conveyances, and equipment via the ACE Portal or Electronic Data Interchange (EDI) messaging.

C. Cartman or Lighterman Portal Account

To establish a Cartman or Lighterman Portal Account, the following information is required:

a. Employer Identification Number (EIN) or Social Security Number (SSN);

b. CBP-issued license number; and

c. CBP-issued license number.

Once the Portal Account is established, Cartmen or Lightermen will be able to maintain addresses, points of contact, employee information and manage its official data via the Portal.

D. Driver/Crew Portal Accounts

Drivers/Crew who are interested in having their information entered into ACE are encouraged to contact: (1) A truck carrier with EDI or an ACE Portal Account; or (2) a third party provider (this includes importers, brokers, and service centers) with an ACE Portal Account.

Although Drivers/Crew are not required to establish an ACE Portal Account to transact business with CBP, Drivers/Crew who elect to have their own ACE Portal Account with a Driver/Crew view will be required to submit the following information:

a. Name;

b. Date of Birth; and

c. Commercial Driver's License (CDL).

E. Bonded Warehouse, Container Freight Station (CFS), and Container Examination Station (CES) Facility Operator Portal Accounts

To establish a Bonded Warehouse, Container Freight Station (CFS), or Container Examination Station (CES) Facility Operator Portal Account, the following information is required:

a. Employer Identification Number (EIN) or Social Security Number (SSN);

b. Facilities Information and Resources Management System (FIRMS) code; and

c. Bond number.

Once the Portal Account is established, Facility Operators will be able to maintain Facility Operator addresses, points of contact, facility points of contact, and employee lists at the facility level, as well as store and view pertinent documents pertaining to the facility via the ACE Portal.

F. Filer Portal Accounts

To establish a Filer Portal Account, the Filer must provide their Filer Code to CBP. Once the Filer Portal Account is established, Filers will be able to maintain addresses and points of contact (at the filer code level and port level).

G. Foreign Trade Zone (FTZ) Operator

To establish a FTZ Operator Portal Account, the following information is required:

a. Employer Identification Number (EIN) or Social Security Number (SSN);

b. Facilities Information and Resources Management System (FIRMS) code;

c. Zone Number;

d. Sub-zone Number (if applicable);

e. Site Number; and

f. Bond Number.

Once the Portal Account is established, FTZ Operators will have the ability to maintain FTZ Operator addresses, points of contact, and certifications pertinent to the site. FTZ Operator Portal Account Owners will also have the ability to view all sites operated by the FTZ Operator, as well as view and store documents pertinent to the site.

H. Service Provider Portal Account

To establish a Service Provider Portal Account, the following information is required:

a. Software Vendor: Filer Code and/or SCAC;

b. Service Bureau/Center: Filer code and/or SCAC;

c. Port Authority: SCAC;

d. Preparer: SCAC; and

e. Surety agent: Filer code.

Once the Service Provider Portal Account is established, Service Providers will be able to maintain addresses and points of contact via the ACE Portal.

I. Surety

To establish a Surety Portal Account, the following information is required:

a. Surety Code; and

b. Employer Identification Number (EIN).

Once the Portal Account is established, sureties will be able to access the following functionality via the Portal: maintain addresses; points of contact; and Corporate Surety Power of Attorney data; and view Continuous bond data.

IV. Suspension of Regulations

During the testing of the Entry Summary, Accounts and Revenue (ESAR) functionality, CBP is suspending provisions in part 24 of title 19 of the Code of Federal Regulations (19 CFR part 24) relating to the filing of the CBP Form 5106, as well as provisions in 19 CFR part 111 relating to current procedures that are done via paper by customs brokers and that will now be done electronically. Absent any alternate procedures set forth above in the description of the test, the current regulations apply.

V. Misconduct Under the Test

An ACE test participant may be subject to civil and criminal penalties, administrative sanctions, liquidated damages, and/or suspension from this test for any of the following:

• Failure to follow the terms and conditions of this test.

• Failure to exercise reasonable care in the execution of participant obligations.

• Failure to abide by applicable laws and regulations.

• Failure to deposit duties or fees in a timely manner.

• Misuse of the ACE Portal.

• Engagement in any unauthorized disclosure or access to the ACE Portal.

• Engagement in any activity which interferes with the successful evaluation of the new technology.

Suspensions for misconduct will be administered by the Executive Director, Commercial Targeting and Enforcement, Office of International Trade, CBP Headquarters. A notice proposing suspension will be provided in writing to the participant. Such notice will apprise the participant of the facts or conduct warranting suspension and will inform the participant of the date that the suspension will begin.

Any decision proposing suspension of a participant may be appealed in writing to the Assistant Commissioner, Office of International Trade, within 15 calendar days of the notification date. Should the participant appeal the notice of proposed suspension, the participant must address the facts or conduct charges contained in the notice and state how compliance will be achieved. In cases of non-payment, late payment, willful misconduct or where public health interests or safety is concerned, the suspension may be effective immediately.

VI. Test Evaluation Criteria

To ensure adequate feedback, participants are required to participate in an evaluation of this test. CBP also invites all interested parties to comment on the design, implementation and conduct of the test at any time during the test period. CBP will publish the final results in the Federal Register and the Customs Bulletin as required by 19 CFR 101.9(b).

The following evaluation methods and criteria have been suggested:

1. Baseline measurements to be established through data analysis.

2. Questionnaires from both trade participants and CBP addressing such issues as:

• Workload impact (workload shifts/volume, cycle times, etc.).

• Cost savings (staff, interest, reduction in mailing costs, etc.).

• Policy and procedure accommodation.

• Trade compliance impact.

• Problem resolution.

• System efficiency.

• Operational efficiency.

• Other issues identified by the participant group.

Dated: October 15, 2007.
Daniel Baldwin,
Assistant Commissioner, Office of International Trade .

[FR Doc. E7-20553 Filed 10-17-07; 8:45 am]

BILLING CODE 9111-14-P